DEPARTMENT OF JUSTICE

Antitrust Division

Notice Pursuant to the National Cooperative Research and Production Act of 1993—Polyurea Development Association

Notice is hereby given that, on November 21, 2005, pursuant to section 6(a) of the National Cooperative Research and Production Act of 1993, 15 U.S.C. 4301 et seq. (“the Act”), Polyurea Development Association (“PDA”) has filed written notifications simultaneously with the Attorney General and the Federal Trade Commission disclosing additions or changes to its standards development activities. The notifications were filed for the purpose of extending the Act's provisions limiting the recovery of antitrust plaintiffs to actual damage under specified circumstances. Specifically, PDA has added a new development activity to include a voluntary consensus standard for Polyurea/Geotextile Elastomeric Lining Systems.

On May 9, 2005, PDA filed its original notification pursuant to section 6(a) of the Act. The Department of Justice published a notice in the Federal Register pursuant to section 6(b) of the Act on June 13, 2005 (70 FR 34151).

Dorothy B. Fountain,
Deputy Director of Operations, Antitrust Division.

[FR Doc. 05-24095 Filed 12-14-05; 8:45 am]

BILLING CODE 4418-11-M